DEPARTMENT OF THE INTERIOR

National Park Service

[NPS-WASO-NAGPRA-20233; PPWOCRADN0-PCU00RP14.R50000]

Notice of Intent To Repatriate Cultural Items: Mount Holyoke College Art Museum, South Hadley, MA

AGENCY: National Park Service, Interior.

ACTION: Notice.

SUMMARY: The Mount Holyoke College Art Museum, in consultation with the appropriate Indian tribes or Native Hawaiian organizations, has determined that the cultural item listed in this notice meets the definition of a sacred object and object of cultural patrimony. Lineal descendants or representatives of any Indian tribe or Native Hawaiian organization not identified in this notice that wish to claim this cultural item should submit a written request to the Mount Holyoke College Art Museum. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Mount Holyoke College Art Museum at the address in this notice by March 21, 2016.

ADDRESSES: Aaron F. Miller, NAGPRA Coordinator, Mount Holyoke College Art Museum, 50 College Street, South Hadley, MA 01075, telephone (413) 538-3394, email afmiller@mtholyoke.edu.

SUPPLEMENTARY INFORMATION: Notice is here given in accordance with the Native American Graves Protection and Repatriation Act (NAGPRA), 25 U.S.C. 3005, of the intent to repatriate a cultural item under the control of the Mount Holyoke College Art Museum that meets the definition of a sacred object and an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

In 2014, one cultural item was donated to the Mount Holyoke College Art Museum by the children of J. Donald Detenber, from Westborough, MA. Detenber was a collector and dealer in Native American objects, and it is unclear when and where he acquired the object. Detenber was most active in the 1980s and 1990s and purchased from various dealers and auction houses across the country. The sacred object/object of cultural patrimony is a woven cotton sash.

This type of textile was used primarily by the bride in the traditional Hopi wedding ceremony and can be seen in various photographs from the early 20th century. As part of the ceremony, cotton was collected from various members of the community and woven by a specific group of relatives. Another known use of these sashes is the Powamu Festival, centered on the seasonal planting of beans. One aspect of the ceremonies is the imitation of Katchinas (ancestral spirits). In some cases, men would don the sash to dress as female Katchina spirits or women in general. One such female Katchina is Angwusnasomtaka (Crow Mother), who is often represented with this type of sash. Based on the above definitions and a general knowledge of these objects being used in various types of ceremonies, there is a relationship of shared group identity that can be reasonably traced between the cultural item and the Hopi Tribe of Arizona.

Determinations Made by the Mount Holyoke College Art Museum

Officials of the Mount Holyoke College Art Museum have determined that:

• Pursuant to 25 U.S.C. 3001(3)(C), the one cultural item described above is a specific ceremonial objects needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred object and object of cultural patrimony and the Hopi Tribe of Arizona.

Additional Requestors and Disposition

Lineal descendants or representatives of any Indian tribe or Native Hawaiian organization not identified in this notice that wish to claim this cultural item should submit a written request with information in support of the claim to Aaron F. Miller, NAGPRA Coordinator, Mount Holyoke College Art Museum, 50 College Street, South Hadley, MA 01075, telephone (413) 538-3394, email afmiller@mtholyoke.edu, by March 21, 2016. After that date, if no additional claimants have come forward, transfer of control of the sacred object and object of cultural patrimony to the Hopi Tribe of Arizona may proceed.

The Mount Holyoke College Art Museum is responsible for notifying the Hopi Tribe of Arizona that this notice has been published.

Dated: February 3, 2016.
David Tarler,
Acting Manager, National NAGPRA Program.

[FR Doc. 2016-03411 Filed 2-17-16; 8:45 am]

BILLING CODE 4312-50-P